DEPARTMENT OF THE INTERIOR

U.S. Geological Survey

[GX.13.GG00.99600.00]

Agency Information Collection Activities: Comment Request

AGENCY: U.S. Geological Survey (USGS), Interior.

ACTION: Notice of an extension of an information collection (1028-0051).

SUMMARY: To comply with the Paperwork Reduction Act of 1995 (PRA), we are notifying the public that we will submit to OMB an information collection request (ICR) to renew approval of the paperwork requirements for respondents to submit proposals and fulfill assistance reporting requirements for research in earthquake hazard assessments and earthquake occurrence under the Earthquake Hazards Reduction Act of 1977, as amended, Public Law 95-124, 42 U.S.C. 7701 et. seq. To submit a proposal, three standard OMB forms and a project narrative must be completed and submitted via Grants.gov. This collection is scheduled to expire on February 28, 2013. This notice provides the public an opportunity to comment on the paperwork burden of these forms.

DATES: You must submit comments on or before December 31, 2012.

ADDRESSES: You may submit comments on this information collection to the Information Collection Clearance Officer, U.S. Geological Survey, 12201 Sunrise Valley Drive MS 807, Reston, VA 20192 (mail); (703) 648-7199 (fax); or smbaloch@usgs.gov (email). Please Reference Information 1028-0051 in the subject line.

FOR FURTHER INFORMATION CONTACT: To request additional information about this IC, Elizabeth Lemersal, Earthquake Hazards Program, (703) 648-6716.

SUPPLEMENTARY INFORMATION: Title: Earthquake Hazards Program Research and Monitoring.

OMB Control Number: 1028-0051.

Type of Request: Extension of a currently approved collection.

Abstract: Research and monitoring findings are essential to fulfilling USGS's responsibility under the Earthquake Hazards Reduction Act to develop earthquake hazard assessments and recording and reporting earthquake activity nationwide. Residents, emergency responders, and engineers rely on the USGS for this accurate and scientifically sound information. Respondents to Program Announcements submit proposals to support research and monitoring related to earthquake hazard assessments, earthquake causes and effects, and earthquake monitoring. This information is used as the basis for selection and award of projects meeting the USGS's Earthquake Hazards Program objectives. Final reports of research and monitoring findings are required for each funded proposal; annual progress reports are required for awards of a two- to five-year duration. Final reports are made available to the public at the Web site http://earthquake.usgs.gov/research/external/.

Responses are voluntary. No questions of a “sensitive” nature are asked.

Affected Public: Research scientists, engineers, and the general public.

Respondent Obligation: Voluntary; necessary to receive benefits.

Frequency of Collection: Annually: Grant proposals and reporting; Every two to five years: Cooperative Agreement proposals and reporting.

Estimated Annual Number of and Description of Respondents: 250 Educational institutions, and profit and non-profit organizations.

Estimated Annual Number of Responses: 350 (250 applications and narratives and 100 annual and final reports).

Estimated Completion Time: 45 hours per application response and 12 hours per final report.

Estimated Annual Burden Hours: 12,450 (11,250 hours for applications and 1,200 hours for final reports).

Estimated Annual Reporting and Recordkeeping “Hour” Burden: We estimate the public reporting burden will average 45 hours per application response. This includes time to develop project goals, write the statement of work, perform internal proposal reviews, and submit the proposal through grants.gov. We estimate the public reporting burden will average 12 hours per final or annual report response. This includes summarizing accomplishments for the past year's funded efforts.

Estimated Reporting and Recordkeeping “Non-Hour Cost” Burden: We have not identified any “non-hour cost” burdens associated with this collection of information.

Public Disclosure Statement: The PRA (44 U.S.C. 3501, et seq.) provides that an agency may not conduct or sponsor and you are not required to respond to a collection of information unless it displays a currently valid OMB control number.

Comments: We are soliciting comments as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology. Please note that the comments submitted in response to this notice are a matter of public record. Before including your address, phone number, email address, or other personal identifying information in your comment, you should be aware that your entire comment, including your personal identifying information, may be made publicly available at any time. While you can ask us in your comment to withhold your personal identifying information from public review, we cannot guarantee we will be able to do so.

Dated: October 23, 2012.
William Leith,
Senior Science Advisor for Earthquake and Geologic Hazards.

[FR Doc. 2012-26736 Filed 10-30-12; 8:45 am]

BILLING CODE 4311-AM-P